DEPARTMENT OF THE INTERIOR

National Park Service

[NPS-WASO-NAGPRA-NPS0025516; PPWOCRADN0-PCU00RP14.R50000]

Notice of Inventory Completion: Bess Bower Dunn Museum of Lake County, Libertyville, IL (Previously Known as the Lake County Discovery Museum, Wauconda, IL)

AGENCY: National Park Service, Interior.

ACTION: Notice.

SUMMARY: The Bess Bower Dunn Museum of Lake County (previously known as the Lake County Discovery Museum) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Bess Bower Dunn Museum of Lake County. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Bess Bower Dunn Museum of Lake County at the address in this notice by June 20, 2018.

ADDRESSES: Diana Dretske, Bess Bower Dunn Museum of Lake County, 1899 West Winchester Road, Libertyville, IL 60048, telephone (847) 968-3400, email ddretske@lcfpd.org.

SUPPLEMENTARY INFORMATION: Notice is here given in accordance with the Native American Graves Protection and Repatriation Act (NAGPRA), 25 U.S.C. 3003, of the completion of an inventory of human remains and associated funerary objects under the control of the Bess Bower Dunn Museum of Lake County, Libertyville, IL. The human remains and associated funerary objects were removed from Decorah, Winneshiek County, IA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Bess Bower Dunn Museum of Lake County professional staff in consultation with representatives of Cheyenne River Sioux Tribe of the Cheyenne River Reservation, South Dakota; Flandreau Santee Sioux Tribe of South Dakota; Ho-Chunk Nation of Wisconsin; Iowa Tribe of Kansas and Nebraska; Lower Sioux Indian Community in the State of Minnesota; Peoria Tribe of Indians of Oklahoma; Ponca Tribe of Indians of Oklahoma; Sac & Fox Nation of Missouri in Kansas and Nebraska; Sac & Fox Nation, Oklahoma; Sac & Fox Tribe of the Mississippi in Iowa; Spirit Lake Tribe, North Dakota; Upper Sioux Community, Minnesota; and the Winnebago Tribe of Nebraska. The following Tribes were also invited to participate but were not involved in consultations: Citizen Potawatomi Nation, Oklahoma; Iowa Tribe of Oklahoma; Omaha Tribe of Nebraska; Otoe-Missouria Tribe of Indians, Oklahoma; Pawnee Nation of Oklahoma; Ponca Tribe of Nebraska; Prairie Band Potawatomi Nation (previously listed as the Prairie Band of Potawatomi Nation, Kansas); Prairie Island Indian Community in the State of Minnesota; Santee Sioux Nation, Nebraska; Shakopee Mdewakanton Sioux Community of Minnesota; Sisseton-Wahpeton Oyate of the Lake Traverse Reservation, South Dakota; Three Affiliated Tribes of the Fort Berthold Reservation, North Dakota; and the Yankton Sioux Tribe of South Dakota.

History and Description of the Remains

At an unknown date, human remains representing, at minimum, one individual were removed from Decorah, Winneshiek County, IA. In 1957, the human remains were at the Moody Museum in McGregor, Clayton County, IA. On May 23, 1957, the human remains and the projectile point were sold to Robert Vogel of the Lake County History Museum, Wadsworth, IL. No known individuals were identified. The one associated funerary object is a projectile point.

The projectile point was embedded in the skull at the time of death. The individual might have lived about six months after being struck by the projectile point, based on evidence of bone growth resulting from normal healing. Decorah, IA, is described by tribal oral tradition as belonging to the Ho-Chunk Nation of Wisconsin territory. Decorah, IA, is also part of the “Neutral Ground” included in land cessions by the Ho-Chunk Nation to the United States Government in 1832 and 1846.

Determinations Made by the Bess Bower Dunn Museum of Lake County

Officials of the Bess Bower Dunn Museum of Lake County have determined that:

• Pursuant to 25 U.S.C. 3001(9), the human remains described in this notice represent the physical remains of one individual of Native American ancestry.

• Pursuant to 25 U.S.C. 3001(3)(A), the one object described in this notice are reasonably believed to have been placed with or near individual human remains at the time of death or later as part of the death rite or ceremony.

• Pursuant to 25 U.S.C. 3001(2), there is a relationship of shared group identity that can be reasonably traced between the Native American human remains and associated funerary objects and the Ho-Chunk Nation of Wisconsin.

Additional Requestors and Disposition

Lineal descendants or representatives of any Indian Tribe or Native Hawaiian organization not identified in this notice that wish to request transfer of control of these human remains and associated funerary objects should submit a written request with information in support of the request to Diana Dretske, Bess Bower Dunn Museum of Lake County, 1899 West Winchester Road, Libertyville, IL 60048, telephone (847) 968-3400, email ddretske@lcfpd.org, by June 20, 2018. After that date, if no additional requestors have come forward, transfer of control of the human remains and associated funerary objects to Ho-Chunk Nation of Wisconsin may proceed.

The Bess Bower Dunn Museum of Lake County is responsible for notifying the Cheyenne River Sioux Tribe of the Cheyenne River Reservation, South Dakota; Flandreau Santee Sioux Tribe of South Dakota; Ho-Chunk Nation of Wisconsin; Iowa Tribe of Kansas and Nebraska; Lower Sioux Indian Community in the State of Minnesota; Peoria Tribe of Indians of Oklahoma; Ponca Tribe of Indians of Oklahoma; Sac & Fox Nation of Missouri in Kansas and Nebraska; Sac & Fox Nation, Oklahoma; Sac & Fox Tribe of the Mississippi in Iowa; Spirit Lake Tribe, North Dakota; Upper Sioux Community, Minnesota; and the Winnebago Tribe of Nebraska that this notice has been published.

Dated: April 30, 2018.
Melanie O'Brien,
Manager, National NAGPRA Program.

[FR Doc. 2018-10782 Filed 5-18-18; 8:45 am]

BILLING CODE 4312-52-P